DEPARTMENT OF ENERGY

Federal Energy Regulatory Commission

Notice of Effectiveness of Exempt Wholesale Generator Status

| Docket Nos.
Peyton Creek Wind Farm II, LLC | EG25-96-000
Stoneridge Solar, LLC | EG25-97-000
Sun Ridge Solar, LLC | EG25-98-000
Regis Falfurrias LLC | EG25-99-000
Regis Medina LLC | EG25-100-000
Regis Sinton Pirate LLC | EG25-101-000
Regis Carrizo Springs LLC | EG25-102-000
Regis Escondido LLC | EG25-103-000
Regis Gears-Harris LLC | EG25-104-000
Regis Goodwin LLC | EG25-105-000
Regis Gregory LLC | EG25-106-000
Regis Hearn LLC | EG25-107-000
Regis Hidden Valley LLC | EG25-108-000
Regis Laureles LLC | EG25-109-000
Regis Leakey LLC | EG25-110-000
Regis Lyssy LLC | EG25-111-000
Regis Mason LLC | EG25-112-000
Regis Medina Lake LLC | EG25-113-000
Regis Milton LLC | EG25-114-000
Regis Monte Cristo LLC | EG25-115-000
Regis Muenster LLC | EG25-116-000
Regis Palacios LLC | EG25-117-000
Regis Utopia LLC | EG25-118-000
La Casa Wind, LLC | EG25-119-000
Carol Renewable Energy, LLC | EG25-120-000
Throckmorton Wind, LLC | EG25-121-000
Willow Creek Wind Project, LLC | EG25-123-000
Salt Creek Wind, LLC | EG25-124-000
Regis Continental LLC | EG25-125-000
Golden Fields Solar IV Bess LLC | EG25-126-000
Hornshadow Solar, LLC | EG25-127-000
Hornshadow Solar 2, LLC | EG25-128-000
Breckinridge Wind, LLC | EG25-129-000
EXUS NM Data Center IV, LLC | EG25-130-000
Cedar Bluff Wind Energy, LLC | EG25-131-000
Mammoth Plains Wind, LLC | EG25-132-000
Seiling Wind Energy II, LLC | EG25-133-000
Palo Duro Wind, LLC | EG25-134-000
Calistoga Resiliency Center, LLC | EG25-135-000
New Madrid Solar, LLC | EG25-136-000
Forgeview Solar, LLC | EG25-137-000
Gibson Solar, LLC | EG25-138-000
Lane City Wind, LLC | EG25-139-000
BHS Solar, LLC | EG25-140-000
Flat Fork Solar, LLC | EG25-141-000
Bronson Solar, LLC | EG25-142-000
Wildwood Solar, LLC | EG25-143-000
Sebree Solar, LLC | EG25-144-000
Route 66 Energy Storage, LLC | EG25-145-000
Sky Ranch Energy Storage II, LLC | EG25-146-000
Fremont Solar, LLC | EG25-147-000
BT Hickerson Solar, LLC | EG25-148-000
Compadre Solar, LLC | EG25-149-000
Blue Summit II Storage, LLC | EG25-150-000
Diver Solar, LLC | EG25-151-000
Roadrunner Crossing Energy Storage, LLC | EG25-152-000
Milagro Solar I, LLC | EG25-153-000
Dominguez Grid, LLC | EG25-154-000
MPH Elwood, LLC | EG25-155-000
Tibbits Energy Storage LLC | EG25-156-000
Skeleton Creek Energy Center, LLC | EG25-157-000
Cadence Solar Energy LLC | EG25-158-000
Trade Post Solar LLC | EG25-159-000
Roaring Springs Solar, LLC | EG25-160-000
Midpoint Solar, LLC | EG25-161-000
1000 Mile Solar, LLC | EG25-162-000
Sequoia Renewables LLC | EG25-163-000
Luna Valley Storage LLC | EG25-164-000
Luna Valley Solar I, LLC | EG25-165-000
Dogfish ESS Assets, LLC | EG25-166-000
Osagrove Flats Wind, LLC | EG25-167-000
Dusty Rose Wind, LLC | EG25-168-000
Hart Wind Project, LLC | EG25-169-000
CPV Rogue's Wind, LLC | EG25-170-000
Cottonwood Bayou Storage, LLC | EG25-171-000
Knox County Wind Farm LLC | EG25-172-000
Carousel Wind, LLC | EG25-173-000
Monarch Creek Wind LLC | EG25-174-000
Eldorado Solar Project II, LLC | EG25-175-000
Sol InfraCo MT3, LLC | EG25-176-000
FRP Forest Trail Solar, LLC | EG25-177-000
FRP Miller Solar, LLC | EG25-178-000

Take notice that during the month of April 2025, the status of the above-captioned entities as Exempt Wholesale Generators became effective by operation of the Commission's regulations. 18 CFR 366.7(a) (2024).

Dated: May 5, 2025.
Carlos D. Clay,
Deputy Secretary.

[FR Doc. 2025-08222 Filed 5-9-25; 8:45 am]

BILLING CODE 6717-01-P